ENVIRONMENTAL PROTECTION AGENCY

[EPA-HQ-OPP-2004-0369; FRL-8095-8]

Dichlorvos (DDVP): Termination of Certain Uses and Label Amendments

AGENCY: Environmental Protection Agency(EPA).

ACTION: Notice.

SUMMARY: This notice announces EPA's cancellation order for the termination of certain uses and label amendments, voluntarily requested by the registrant and accepted by the Agency, of products containing the pesticide dichlorvos (DDVP), pursuant to section 6(f)(1) of the Federal Insecticide, Fungicide, and Rodenticide Act (FIFRA), as amended. This cancellation order follows a June 30, 2006 Federal Register Notice of Receipt of Request from the DDVP registrant to voluntarily terminate certain uses of its DDVP products and label amendments. The request would terminate DDVP use in or on: Mushroom house (hand held fogger); Greenhouse (hand held fogger); Warehouse (hand held fogger); Crack and Crevice use; Total Release Fogger, Lawn, Turf and Ornamentals; 21 gram Pest Strip; 65 gram Pest Strip; 80 gram Pest Strip; and 100 gram Pest Strip. The request would not terminate the last DDVP products registered for use in the U.S. In the June 30, 2006 Notice, EPA indicated that, subject to certain conditions being satisfied, it would issue an order to implement the termination of certain uses, unless the Agency received substantive comments within the 30 day comment period that would merit its further review of these requests, or unless the registrant withdrew their request within this period. The Agency did not receive any comments on the Notice that merit further review of these requests. Further, the registrant did not withdraw their request. Accordingly, EPA hereby issues in this notice a cancellation order granting the request to terminate the uses described above. Any distribution, sale, or use of the DDVP products subject to this cancellation order is permitted only in accordance with the terms of this order, including any existing stocks provisions.

DATES: The cancellations are effective October 20, 2006.

FOR FURTHER INFORMATION CONTACT: Dayton Eckerson, Special Review and Reregistration Division (7508P), Office of Pesticide Programs, Environmental Protection Agency, 1200 Pennsylvania Ave., NW., Washington, DC 20460-0001; telephone number: (703) 308-8038; fax number: (703) 308-8005; e-mail address: eckerson.dayton@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2002-0302. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the Federal Registerlistings at http://www.epa.gov/fedrgstr/.

II. What Action is the Agency Taking?

This notice grants the request by the registrant identified in this notice (Table 2) to terminate certain uses of DDVP. DDVP is an organophosphate insecticide and fumigant registered for use in controlling flies, mosquitoes, gnats, cockroaches, fleas, and other insect pests. Formulations of DDVP include pressurized liquid, granular, emulsifiable concentrate, total release aerosol, and impregnated material. DDVP is applied with aerosols and fogging equipment, with ground spray equipment, and through slow release from impregnated materials, such as resin strips and pet collars. DDVP is registered to control insect pests on agricultural sites; commercial, institutional and industrial sites; and for domestic use in and around homes (i.e., resin strips) and on pets. DDVP is used preplant in mushroom houses, and postharvest in storage areas for bulk, packaged and bagged raw and processed agricultural commodities, food manufacturing/processing plants, animal premises, and non-food areas of food-handling establishments. It is also registered for direct dermal pour-on treatment of cattle and poultry, and swine. DDVP is not registered for direct use on any field grown commodities. In a letter dated May 9, 2006, Amvac Chemical Corporation requested EPA to amend the pesticide product registrations identified in this notice (Table 1) to terminate certain uses. Specifically, the request would terminate DDVP use in or on: Mushroom house (hand held fogger); Greenhouse (hand held fogger); Warehouse (hand held fogger); Crack and Crevice use; Total Release Fogger; Lawn, Turf and Ornamentals; 21 gram Pest Strip; 65 gram Pest Strip; 80 gram Pest Strip; and 100 gram Pest Strip. (The registration for the 21 gram Pest Strip is being replaced by a new registration for a 16 gram Pest Strip with amended label language; the registrations for the 80 gram and 65 gram Pest Strips are being replaced by new registrations for the same size strips with amended label language). The request would not terminate the last DDVP products registered for use in the United States.

This notice announces the termination of certain uses of DDVP product registrations. The affected products and the registrant making the request are identified in the following tables of this unit.

Table 1.—DDVP Product Registrations with Pending Requests for Amendment
Registration No. | Product name | Company
5484-96 | DDVP TECHNICAL GRADE | Amvac Chemical Corporation
5481-338 | ALCO NO-PEST STRIP | Amvac Chemical Corporation
5481-344 | AMVAC INSECT STRIP | Amvac Chemical Corporation
5481-348 | ALCO PEST STRIP | Amvac Chemical Corporation
5481-461 | AMVOS RESTECH | Amvac Chemical Corporation
5481-462 | AMVOS LIQUITECH | Amvac Chemical Corporation

Table 2 of this unit includes the name and address of record for the registrant of the products listed in Table 1 of this unit.

Table 2.—Registrant Requesting Voluntary Amendments
EPA Company No. | Company name and address
5481 | Amvac Chemical Corporation, 4695 MacArthur Court, Suite 1250, Newport Beach, CA 92660

III. Summary of Public Comments Received and Agency Response to Comments

During the public comment period provided, EPA received four comments in response to the June 30, 2006 Federal Register notice announcing the Agency's receipt of the request for voluntary termination of certain uses of DDVP. However, these comments do not require any amendments to these requests.

IV. Cancellation Order

Pursuant to FIFRA section 6(f), EPA hereby approves the requested cancellation order to terminate certain uses of DDVP registrations identified in Table 1 of Unit II. Accordingly, the Agency also orders that the label amendments for the product registration identified in Table 2 of Unit II. is hereby amended. Any distribution, sale, or use of existing stocks of the products identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action.

This cancellation order will not prevent any sale or distribution of product to any end use registrant or supplemental distributor (“Distributor”) bearing previously approving labeling before December 31, 2007, and will not prevent any sale or distribution of such product by retailers. Furthermore, this cancellation order will not prevent the sale or distribution of such product by Distributors after that date if such sale or distribution is for purposes of (i) return of material to Amvac, (ii) proper disposal, or (iii) export consistent with the requirements of section 17 of FIFRA.

However, with respect to the following uses: Mushroom house (hand held fogger); greenhouse (hand held fogger); warehouse (hand held fogger); crack and crevice use; total release fogger; and lawn, turf and ornamentals, the Agency includes the following provisions for the treatment of any existing stocks: The distribution, sale or use of any existing stocks of such products will not be permitted, except the EPA intends to allow the sale or distribution for purposes of (i) return of material to Amvac, (ii) proper disposal, or (iii) export consistent with the requirements of section 17 of FIFRA.

List of Subjects

Environmental protection, Pesticides and pests.

Dated: October 11, 2006.
Debra Edwards,
Director, Special Review and Reregistration Division, Office of Pesticide Programs.

[FR Doc. 06-8764 Filed 10-19-06; 8:45 am]

BILLING CODE 6560-50-S